POSTAL REGULATORY COMMISSION

[Docket No. CP2015-71; Order No. 3300]

New Postal Product

AGENCY: Postal Regulatory Commission.

ACTION: Notice.

SUMMARY: The Commission is noticing a recent Postal Service filing concerning contingency prices for an existing Global Plus 2C negotiated service agreement. This notice informs the public of the filing, invites public comment, and takes other administrative steps.

DATES: Comments are due: May 25, 2016.

ADDRESSES: Submit comments electronically via the Commission's Filing Online system at http://www.prc.gov. Those who cannot submit comments electronically should contact the person identified in the FOR FURTHER INFORMATION CONTACT section by telephone for advice on filing alternatives.

FOR FURTHER INFORMATION CONTACT: David A. Trissell, General Counsel, at 202-789-6820.

SUPPLEMENTARY INFORMATION:

Table of Contents

I. Introduction

II. Notice of Filings

III. Ordering Paragraphs

I. Introduction

On May 16, 2016, the Postal Service filed notice of contingency prices for the existing Global Plus 2C negotiated service agreement approved in this docket.¹ In support of its Notice, the Postal Service includes a redacted copy of the letter to the customer (Letter) and a certification of compliance with 39 U.S.C. 3633(a), as required by 39 CFR 3015.5.

¹ Notice of United States Postal Service of Prices Under Functionally Equivalent Global Plus 2C Negotiated Service Agreement, May 16, 2016 (Notice).

The Postal Service also filed the unredacted Letter and supporting financial information under seal. The Postal Service seeks to incorporate by reference the Application for Non-Public Treatment originally filed in this docket for the protection of information that it has filed under seal. Notice at 3.

The Postal Service seeks to change the price of International Business Reply Envelopes received from Canada. Letter at 1. The Postal Service intends for the contingency prices to become effective June 1, 2016. Id. The Postal Service asserts that the contingency prices are in compliance with the requirements of 39 U.S.C. 3633 and functionally equivalent to those contemplated by the Global Plus 2C baseline contract filed in Docket Nos. MC2012-5, CP2012-10, and CP2012-11. Notice at 4.

II. Notice of Filings

The Commission invites comments on whether the changes presented in the Postal Service's Notice are consistent with the policies of 39 U.S.C. 3632, 3633, or 3642, 39 CFR 3015.5, and 39 CFR part 3020, subpart B. Comments are due no later than May 25, 2016. The public portions of these filings can be accessed via the Commission's Web site (http://www.prc.gov).

The Commission appoints Jennaca D. Upperman to represent the interests of the general public (Public Representative) in this docket.

III. Ordering Paragraphs

It is ordered:

1. The Commission reopens Docket No. CP2015-71 for consideration of matters raised by the Postal Service's Notice.

2. Pursuant to 39 U.S.C. 505, the Commission appoints Jennaca D. Upperman to serve as an officer of the Commission (Public Representative) to represent the interests of the general public in this proceeding.

3. Comments are due no later than May 25, 2016.

4. The Secretary shall arrange for publication of this order in the Federal Register.

By the Commission.
Stacy L. Ruble,
Secretary.

[FR Doc. 2016-12110 Filed 5-23-16; 8:45 am]

BILLING CODE 7710-FW-P